DEPARTMENT OF THE TREASURY

Office of the Comptroller of the Currency

Office of Thrift Supervision

FEDERAL DEPOSIT INSURANCE CORPORATION

Agency Information Collection Activities: Submission For OMB Review; Comment Request

AGENCIES: Office of the Comptroller of the Currency (OCC), Office of Thrift Supervision (OTS), Department of the Treasury; and Federal Deposit Insurance Corporation (FDIC).

ACTION: Notice of information collection to be submitted to OMB for review and approval under the Paperwork Reduction Act of 1995.

SUMMARY: In accordance with requirements of the Paperwork Reduction Act of 1995 (44 U.S.C. 3501 et seq.), the OCC, the OTS and the FDIC (collectively, the agencies) give notice that they plan to submit to the Office of Management and Budget (OMB) a request for OMB review and approval of the information collection system described below. The agencies may not conduct or sponsor, and a respondent is not required to respond to, an information collection unless it displays a currently valid control number.

DATES: Comments must be submitted on or before September 25, 2000.

ADDRESSES: You are invited to submit a comment to the OMB Reviewer and any or all of the agencies. Please direct your comments as follows:

OMB: Alexander T. Hunt, Office of Management and Budget, Office of Information and Regulatory Affairs, Washington, DC. 20503.

OCC: Communications Division, Office of the Comptroller of the Currency, 250 E Street, SW., Third Floor, Attention: 1557-0217, Washington, DC 20219. In addition, you may send a comment by facsimile transmission to (202) 874-5274, or by electronic mail to regs.comments@occ.treas.gov. You can inspect and photocopy the comments at the OCC's Public Reference Room, 250 E Street, SW., Washington, DC, between 9:00 a.m. and 5:00 p.m. on business days. You can make an appointment to inspect the comments by calling (202) 874-5043.

OTS: Manager, Dissemination Branch, Information Management and Services, Office of Thrift Supervision, 1700 G Street, NW., Washington, DC 20552, Attention: 1550-0104. You may hand deliver your comments to the Guard's desk at 1700 G Street, NW.; or you may send comments by facsimile transmission to (202) 906-7755; or they may be sent by e-mail: public.info@ots.treas.gov. If you comment by e-mail, you should include your name and telephone number. You should send any comments over 25 pages in length to FAX Number (202) 906-6956. You may inspect the comments at 1700 G Street, NW., from 10 a.m. until 4 p.m. on Tuesdays and Thursdays. Comments are also available at OTS.treas.gov.

FDIC: Steven F. Hanft, Assistant Executive Secretary, Attention: 3064-0137, 550 17th Street, NW., Washington, DC 20429, (202) 898-3907, Attention: 3064-0137. You may hand-deliver comments to the guard station at the rear of the 550 17th Street Building (located on F Street), on business days between 7 a.m. and 5 p.m. [FAX number (202) 898-3838. Internet address: comments@fdic.gov].

FOR FURTHER INFORMATION CONTACT: OCC: Jessie Dunaway or Camille Dixon, (202) 874-5090, Legislative and Regulatory Activities Division, Office of the Comptroller of the Currency, 250 E Street, SW, Washington, DC 20219.

OTS: Ralph E. Maxwell, (202) 906-7740, Clearance Officer, Office of Thrift Supervision, 1700 G Street, NW, Washington, DC 20552.

FDIC: Steven F. Hanft at the address listed above.

SUPPLEMENTARY INFORMATION: Type of Review: Renewal, without change, of a currently approved collection.

Title: Interagency Guidance on Asset Securitization Activities.

OMB Numbers: OCC: 1557-0217; OTS: 1550-0104; FDIC: 3064-0137.

Estimate of Annual Burden: Estimated Number of Respondents: OCC: 50; OTS: 30; FDIC: 70.

Estimated Responses per Respondent: OCC: 1 per year; OTS: 1 per year; FDIC: 1 per year.

Estimated Total Annual Burden: OCC: 2,115 hours; OTS: 1,269 hours; FDIC: 2,070 hours.

Abstract: The collection applies to institutions engaged in asset securitization and consists of the development of a written asset securitization policy, the documentation of fair value of retained interests, and a management information system to monitor securitization activities. Institution management use the collection as the basis for the safe and sound operation of their asset securitization activities. The Agencies use the information to evaluate the quality of an institution's risk management practices.

Further information: Information about this submission, including copies of the proposed collection of information, may be obtained by calling or writing the agency contacts listed above. The Board of Governors of the Federal Reserve System has participated in the development and review of this information collection and will process its extension under its Paperwork Reduction Act delegated authority.

Comments are invited on:

(a) Whether the collections of information are necessary for the proper performance of the functions of the agencies, including whether the information has practical utility;

(b) The accuracy of the agencies' estimates of the burden of the information collections;

(c) Ways to enhance the quality, utility, and clarity of the information to be collected;

(d) Ways to minimize the burden of the collection on the respondents, including through the use of automated collection techniques or other forms of information technology; and

(e) Estimates of capital or startup costs and costs of operation, maintenance, and purchase of services to provide information.

Dated: August 9, 2000.
Federal Deposit Insurance Corporation.
James D. La Pierre,
Deputy Executive Secretary.

Dated: August 15, 2000.
Mark J. Tenhundfeld,
Assistant Director, Legislative and Regulatory Activities Division, Office of the Comptroller of the Currency.

Dated: August 11, 2000.
Office of Thrift Supervision.
John E. Werner,
Director, Information Management and Services.

[FR Doc. 00-21571 Filed 8-23-00; 8:45 am]

BILLING CODE 4810-33-P, 6720-01-P, 6714-01-P